DEPARTMENT OF THE INTERIOR

National Park Service

Notice of Contract Extension

AGENCY: National Park Service, Interior.

ACTION: Public notice.

SUMMARY: Pursuant to 36 CFR 51.23, public notice is hereby given that the National Park Service proposes to extend the following expiring concession contract for a period of up to three years, or until such time as a new contract is awarded, whichever occurs sooner.

SUPPLEMENTARY INFORMATION: The listed concession authorization will expire by its terms on December 31, 2002. The National Park Service has determined that the proposed extension is necessary in order to avoid interruption of visitor services and has taken all reasonable and appropriate steps to consider alternatives to avoid such interruption. This extension will allow the National Park Service to complete and issue a prospectus leading to the competitive selection of a concessioner for a new long-term concession contract covering this operation.

Concessioner ID No. | Concessioner name | Park
STLI002 | Evelyn Hill, Inc. | Statue of Liberty National Monument.

EFFECTIVE DATE: January 1, 2003.

FOR FURTHER INFORMATION CONTACT: Cynthia Orlando, Concession Program Manager, National Park Service, Washington, DC 20240, Telephone 202/565-1210.

Dated: September 6, 2002.
Richard G. Ring,
Associate Director, Park Operations and Education.

[FR Doc. 02-24043 Filed 9-20-02; 8:45 am]

BILLING CODE 4310-70-M